ENVIRONMENTAL PROTECTION AGENCY

[ER-FRL-9036-3]

Environmental Impact Statements; Notice of Availability

Responsible Agency: Office of Federal Activities, General Information (202) 564-7146 or http://www2.epa.gov/nepa/.

Weekly receipt of Environmental Impact Statements (EIS) Filed 11/13/2017 Through 11/17/2017

Pursuant to 40 CFR 1506.9

Notice

Section 309(a) of the Clean Air Act requires that EPA make public its comments on EISs issued by other Federal agencies. EPA's comment letters on EISs are available at: https://cdxnodengn.epa.gov/cdx-nepa-public/action/eis/search.

EIS No. 20170229, Final, USACE, AZ, ADOPTION—South Mountain Freeway (Loop 202), Contact: Jesse Rice (602) 230-6854.

EIS No. 20170230, Final, BPA, WA, Melvin R. Sampson Hatchery, Yakima Basin Coho Project, Review Period Ends: 12/26/2017, Contact: Dave Goodman (503) 230-4764.

EIS No. 20170231, Final, USFS, OR, Antelope Grazing Allotments AMP, Review Period Ends: 01/08/2018, Contact: Benjamin Goodin (541) 947-6251.

EIS No. 20170232, Draft, BR, CA, Pure Water San Diego Program, North City Project, Comment Period Ends: 01/08/2018, Contact: Doug McPherson (951) 695-5310.

EIS No. 20170233, Draft Supplement, AFRH, DC, Armed Forces Retirement Home Master Plan Update, Comment Period Ends: 01/15/2018, Contact: Justin Seffens (202) 541-7548.

Amended Notices

EIS No. 20170154, Draft, USACE, IL, The Great Lakes and Mississippi River Interbasin Study—Brandon Road, Contact: Andrew Leichty (309) 794-5399.

Revision to the FR Notice Published 09/15/2017; Extending Comment Period from 11/16/2017 to 12/08/2017.

Dated: November 20, 2017.
Kelly Knight,
Director, NEPA Compliance Division, Office of Federal Activities.

[FR Doc. 2017-25430 Filed 11-22-17; 8:45 am]

BILLING CODE 6560-50-P